DEPARTMENT OF ENERGY

Federal Energy Regulatory Commission

[Project No. 1256-031]

Loup River Public Power District; Notice of Application Tendered for Filing With the Commission and Establishing Procedural Schedule for Licensing and Deadline for Submission of Final Amendments

Take notice that the following hydroelectric application has been filed with the Commission and is available for public inspection.

a. Type of Application: New Major License.

b. Project No.: 1256-031.

c. Date Filed: April 16, 2012.

d. Applicant: Loup River Public Power District (Loup Power District).

e. Name of Project: Loup River Hydroelectric Project (Loup River Project).

f. Location: On the Loup River, Loup Canal (a diversion canal off the Loup River), and Platte River in Nance and Platte counties, Nebraska. The project does not occupy federal lands.

g. Filed Pursuant to: Federal Power Act, 16 U.S.C. 791(a)-825(r).

h. Applicant Contact: Neal Suess, President/CEO, Loup Power District, P.O. Box 988, 2404 15th Street, Columbus, Nebraska 68602, Telephone (866) 869-2087.

i. FERC Contact: Lee Emery, (202) 502-8379 or lee.emery@ferc.gov.

j. This application is not ready for environmental analysis at this time.

k. Project Description: The project consists of (upstream to downstream): (1) A 1,320-foot-long, 6-foot-high diversion dam on the Loup River; (2) an intake structure composed of eleven 24-foot-long by 5-foot-high steel intake gates located on the north bank of the Loup River immediately upstream of the diversion dam; (3) three 20-foot-long by 6-foot-high steel sluice gates located between the diversion dam and the intake structure; (4) the 35-mile-long Loup Canal; (5) a 2-mile-long settling basin located in the upper portion of the Loup Canal and containing a floating hydraulic dredge and skimming weir; (6) the Monroe Powerhouse containing three Francis-type, turbine-generating units each with a rated capacity of 2.612 megawatts (MW); (7) a 760-acre regulating reservoir, Lake Babcock, with a storage capacity of 2,270 acre-feet at its full pool elevation of 1,531 feet; (8) a 200-acre regulating reservoir, Lake North, with a storage capacity of 2,080 acre-feet at an elevation of 1,531 feet; (9) a concrete control structure in the south dike linking the two reservoirs; (10) a 60-foot-long by 104-foot-wide by 40-foot-high inlet structure with trashracks; (11) three 20-foot-diameter by 385-foot-long steel penstocks connecting the inlet structure with a powerhouse (Columbus Powerhouse); (12) the Columbus Powerhouse containing three Francis-type, turbine-generating units each with a rated capacity of 15.2 MW; and (13) appurtenant facilities. The project has a combined installed capacity of 53.4 MW.

The Monroe Powerhouse operates in a run-of-river mode (i.e., canal inflow to the powerhouse closely approximates outflow from the powerhouse with no storage of canal flow). The maximum hydraulic capacity of the canal at the Monroe Powerhouse is 3,500 cubic feet per second (cfs). The Monroe Powerhouse spans the canal and functions as an energy-producing canal drop structure.

The Columbus Powerhouse operates as a daily peaking facility. The water levels in Lake Babcock and Lake North are generally drawn down about 2 to 3 feet to produce power during times of peak electrical demand. In off-peak hours, when there is less demand for electricity, the turbines are turned down or shut off, which allows Lake Babcock and Lake North to refill, thereby allowing peaking operations to occur the following day. The hydraulic capacity of the canal at the Columbus Powerhouse is 4,800 cfs.

The minimum leakage rate at the Loup River diversion dam and sluice gate structure is about 50 cfs. During hot weather conditions, Loup Power District operates the diversion in a manner that allows flows of between 50 to 75 cfs (including the leakage flow) to pass into the Loup River downstream of the diversion to prevent high water temperatures that could cause fish mortality.

Loup Power District proposes new and improved recreational amenities at the project; however, there are no proposed changes to the existing project facilities or operations.

Loup Power District proposes to remove three areas of land from the project boundary that it finds are not necessary for project operations or purposes. In addition, Loup Power District proposes to add three parcels of land to the project boundary that it finds are needed for project purposes.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | June 2012.
Filing of recommendations, preliminary terms and conditions, and fishway prescriptions | August 2012.
Commission issues Draft EA | February 2013.
Comments on Draft EA | March 2013.
Modified terms and conditions | May 2013.
Commission issues Final EA | August 2013.

o. Final amendments to the application must be filed with the Commission no later than 30 days from the issuance date of the notice of ready for environmental analysis.

Dated: April 23, 2012.
Kimberly D. Bose,
Secretary.

[FR Doc. 2012-10222 Filed 4-26-12; 8:45 am]

BILLING CODE 6717-01-P